DEPARTMENT OF THE INTERIOR

Bureau of Indian Affairs

Notice of Cancellation of the Environmental Impact Statement for the Proposed Hannahville Tribe of Potawatomi Indians' Hotel and Casino Project, Romulus, MI

AGENCY: Bureau of Indian Affairs, Interior.

ACTION: Notice.

SUMMARY: This notice advises the public that the Bureau of Indian Affairs (BIA) intends to cancel work on the Environmental Impact Statement (EIS) for the Proposed Hannahville Tribe of Potawatomi Indians' Hotel and Casino Project in Romulus, Michigan. The EIS is no longer needed because the Department of the Interior has decided not to accept the land into trust, on the basis that the proposed action did not adequately meet criteria for trust acquisition in 25 CFR 151.3; 151.10(b); 151.10(c); and 151.11(b).

DATES: This cancellation is effective June 20, 2008. Any written comments must arrive by June 19, 2008.

ADDRESSES: You may mail, hand carry or fax written comments to Terrance L. Virden, Regional Director, Midwest Region, Bureau of Indian Affairs, Bishop Henry Whipple Federal Building, One Federal Drive, Room 550, Ft. Snelling, Minnesota 55111.

FOR FURTHER INFORMATION CONTACT: Scott Doig, (612) 725-4514.

SUPPLEMENTARY INFORMATION: The BIA published its Notice of Intent to prepare the EIS on February 14, 2007, in the Federal Register (72 FR 7068). The notice included project details.

Public Comment Availability

Comments, including names and addresses of respondents, will be available for public review at the BIA address shown in the ADDRESSES section, during regular business hours, 8 a.m. to 4:30 p.m., Monday through Friday, except holidays. Before including your address, phone number, e-mail address, or other personal identifying information in your comment, you should be aware that your entire comment—including your personal identifying information—may be made publicly available at any time. While you can ask us in your comment to withhold your personal identifying information from public review, we cannot guarantee that we will be able to do so.

Authority

This notice is published in accordance with sections 1503.1 and 1506.6 of the Council on Environmental Quality Regulations (40 CFR parts 1500 through 1508) implementing the procedural requirements of the National Environmental Policy Act of 1969, as amended (42 U.S.C. 4321 et seq.), and the Department of the Interior Manual (516 DM 1-6), and is in the exercise of authority delegated to the Assistant Secretary—Indian Affairs by 209 DM 8.1.

Dated: May 2, 2008.
Carl J. Artman,
Assistant Secretary—Indian Affairs.

[FR Doc. E8-11152 Filed 5-16-08; 8:45 am]

BILLING CODE 4310-W7-P